DEPARTMENT OF DEFENSE

Department of the Army, Corps of Engineers

Notice of Intent To Prepare an Environmental Impact Statement for Implementing Test Releases From Fort Peck Dam, Montana

AGENCY: Department of the Army, U.S. Army Corps of Engineers, DoD.

ACTION: Notice.

SUMMARY: Pursuant to the National Environmental Policy Act of 1969 (NEPA), as amended, the U.S. Army Corps of Engineers (USACE), Omaha District, intends to prepare an Environmental Impact Statement (EIS) for implementing test flow releases from Fort Peck Dam, Montana, intended to benefit the federally endangered pallid sturgeon (Scaphirynchus albus).

FOR FURTHER INFORMATION CONTACT: Tiffany Vanosdall, U.S. Army Corps of Engineers at (402) 995-2695 or by email at tiffany.k.vanosdall@usace.army.mil.

SUPPLEMENTARY INFORMATION: In the January 19, 2018 amendment to the October 30, 2017 Biological Assessment (BA) for the Operation of the Missouri River Mainstem Reservoir System, the Operation and Maintenance of the Bank Stabilization and Navigation Project, the Operation of the Kansas River Reservoir System, and the Implementation of the Missouri River Recovery Management Plan (MRRMP), the USACE proposed, among other things to work with the U.S. Fish and Wildlife Service (USFWS) and the Missouri River Recovery Implementation Committee (MRRIC) to “review previous information and information generated since the effects analysis to formulate test flow releases from Fort Peck Dam and an adaptive management framework for their implementation.” This commitment was relied upon by the USFWS in its 2018 Biological Opinion (BiOp) finding that the USACE's proposed action is `not likely to jeopardize' pallid sturgeon. The EIS will document the formulation and evaluation of test-flow alternatives from Fort Peck Dam intended to benefit pallid sturgeon.

The EIS scoping period will extend from February 8, 2019 through March 11, 2019. Public comments are invited to assist in identifying the scope of potentially affected environmental, social, and economic issues relevant to the proposed Federal action and determining reasonable alternatives to be considered in the EIS.

In-person public scoping meetings will be held from 5:30 p.m. to 7:30 p.m. on:

• Tuesday, February 19 at the Fort Peck Interpretive Center, Yellowstone Road, Fort Peck, Montana 59223.

• Wednesday, February 20 at the Williams County Administrative Building, 206 East Broadway, Williston, North Dakota 58801.

Scoping comments can be given in writing at the in-person scoping meetings or can be emailed to: cenwo-planning@usace.army.mil.

Scoping comments can also be mailed to: U.S. Army Corps of Engineers, Omaha District, ATTN: CENWO-PM-AC-Fort Peck EIS, 1616 Capitol Avenue, Omaha, NE 68102.

Please note that before including your address, phone number, email address, or any other personal identifying information in your comment, you should be aware that your entire comment—including your personal identifying information—may be made available to the public at any time. While you can request us to withhold your personal identifying information from public review, was cannot guarantee that we will be able to do so.

People needing special assistance to attend and/or participate in the meetings should contact: U.S. Army Corps of Engineers, Omaha District, ATTN: CENWO-PM-AC, 1616 Capitol Ave, Omaha, NE 68102 or email cenwo-planning@usace.army.mil. To allow sufficient time to process special requests. Please contact no later than one week before the public meeting.

Brenda S. Bowen,
Army Federal Register Liaison Officer.

[FR Doc. 2019-01469 Filed 2-7-19; 8:45 am]

BILLING CODE 3720-58-P